ANTITRUST MODERNIZATION COMMISSION

Request for Public Comment

AGENCY: Antitrust Modernization Commission.

ACTION: Request for public comment.

SUMMARY: The Antitrust Modernization Commission requests comments from the public on antitrust issues that are appropriate for Commission study.

DATES: Comments are due by September 30, 2004.

ADDRESSES: By electronic mail: comments@amc.gov. By mail: Antitrust Modernization Commission, Attn: Public Comments, 1001 Pennsylvania Avenue, NW., Suite 800-South, Washington, DC 20004-2505.

FOR FURTHER INFORMATION CONTACT: Andrew J. Heimert, Executive Director & General Counsel, Antitrust Modernization Commission. Telephone: (202) 326-2487; e-mail: info@amc.gov.

SUPPLEMENTARY INFORMATION: The Antitrust Modernization Commission was established to “examine whether the need exists to modernize the antitrust laws and to identify and study related issues.” Antitrust Modernization Commission Act of 2002, Pub. L. 107-273, § 11053, 116 Stat. 1856. In conducting its review of the antitrust laws, the Commission is required to “solicit the views of all parties concerned with the operation of the antitrust laws.” Id. Accordingly, the Commission, by this request for comments, seeks to provide a full opportunity for interested members of the public to provide input to the Commission regarding its agenda for study.

Comments should be submitted in written form. Commenters are asked to provide a brief summary (not to exceed 300 words) of each issue recommended for study, which should include a description of the issue and why the issue merits Commission study. Commenters may submit additional background materials relating to the proposed issue by separate attachment to the summary, but such materials are not necessary.

Submissions should be captioned “Comments regarding Commission issues for study” and should identify the person or organization submitting the comments. If comments are submitted by an organization, the submission should identify a contact person within the organization. Comments should also include the following contact information for the submitter: an address, telephone number, and e-mail address (if available). Comments submitted to the Commission will be made available to the public in accordance with Federal laws.

Comments may be submitted either in hard copy or electronic form. Comments submitted in hard copy should enclose three copies of each submission as well as a 3½ inch computer diskette or CD-ROM containing an electronic copy of the comment. Comments submitted in hard copy should be delivered to the address specified above. Electronic submissions may be sent by electronic mail to comments@amc.gov. The Commission prefers to receive electronic documents (whether on diskette or by e-mail) in portable document format (.pdf), but also will accept comments in Microsoft Word or WordPerfect formats.

The AMC has issued this request for comments pursuant to its authorizing statute and the Federal Advisory Committee Act. Antitrust Modernization Commission Act of 2002, Pub. L. 107-273, § 11053, 116 Stat. 1758, 1856; Federal Advisory Committee Act, 5 U.S.C. App. 10(a)(3).

Dated: July 20, 2004.
By direction of the Antitrust Modernization Commission.
Andrew J. Heimert,
Executive Director & General Counsel, Antitrust Modernization Commission.

[FR Doc. 04-16790 Filed 7-22-04; 8:45 am]

BILLING CODE 6820-YM-P